DEPARTMENT OF TRANSPORTATION

Federal Aviation Administration

Twenty-Third Meeting: RTCA Special Committee 225 (SC-225) Rechargeable Lithium Battery and Battery Systems

AGENCY: Federal Aviation Administration (FAA), U.S. Department of Transportation (DOT).

ACTION: Notice of Twenty-Third RTCA Special Committee 225 Meeting.

SUMMARY: The FAA is issuing this notice to advise the public of the Twenty-Third RTCA Special Committee 225 meeting.

DATES: The meeting will be held June 23, 2016 from 9:00 a.m.-1:00 p.m.

ADDRESSES: The meeting will be held virtually at https://rtca.webex.com/rtca/j.php?MTID=m8be8b59d4641b8884a97bf7c861e464e, Meeting number 636 711 821, Meeting password Batteries1; or join by phone at 1-877-668-4493 call-in toll-free number (US/Canada), 1-650-479-3208 call-in toll number (US/Canada), Access code 636 711 821.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 225. The agenda will include the following:

Thursday, June 23, 2016

1. Introductions and administrative items (including DFO & RTCA Statement) (15 min)

2. Review agenda (10 min)

3. Review and approve summary from the last Plenary (10 min)

4. Review and approve White Paper regarding Probability analysis substitution for formal physical testing of critical design features

5. Ensure all items assigned to the working group are complete (<3 hrs)

6. Approve document for Final Review and Comment (FRAC) (15 min)

7. Establish Agenda, location, and time for next Plenary (10 min)

8. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on May 17, 2016.
Latasha Robinson,
Management & Program Analyst, NextGen, Enterprise Support Services Division, Federal Aviation Administration.

[FR Doc. 2016-12125 Filed 5-20-16; 8:45 am]

BILLING CODE 4910-13-P